DEPARTMENT OF THE TREASURY

Treasury Advisory Committee on Commercial Operations of the U.S. Customs Service

AGENCY: Departmental Offices, Treasury.

ACTION: Notice of meeting.

SUMMARY: This notice announces the date, time, and location for the third meeting of the eighth term of the Treasury Advisory Committee on Commercial Operations of the U.S. Customs Service (COAC), and the expected agenda for its consideration.

DATES: The next meeting of the COAC will be held on Friday, June 20, 2003 at 9 a.m. at the U.S. Mint, Conference Rooms A and B (second floor), located at 801 9th Street, NW., Washington, DC. The duration of the meeting will be approximately four hours.

FOR FURTHER INFORMATION CONTACT: Robyn Day at (202) 927-1440.

SUPPLEMENTARY INFORMATION: This meeting is open to the public. However, participation in the COAC's deliberations is limited to COAC members, Homeland Security and Treasury Department staff, and persons invited to attend the meeting for special presentations. All persons entering the building must be cleared by building security at least 72 hours in advance of the meeting. Personal data to obtain this clearance must be submitted to Robyn Day at (202) 927-1440 no later than 2 p.m. EST on June 16, 2003.

Agenda

The COAC is expected to pursue the following agenda, which may be modified prior to the meeting:

(1) Customs and Border Protection Organization under the Department of Homeland Security.

(2) Customs-Trade Partnership Against Terrorism.

(3) Trade Act of 2002.

(4) 24-Hour Manifest Rule.

(5) COAC Administration under DHS and Treasury.

(6) Customs Participation on WCO Task Force for Global Security Standard.

Dated: May 22, 2003.
Timothy E. Skud,
Deputy Assistant Secretary.

[FR Doc. 03-13454 Filed 5-28-03; 8:45 am]

BILLING CODE 4810-25-P